NUCLEAR REGULATORY COMMISSION

[Docket No. 50-391; NRC-2008-0369]

Tennessee Valley Authority, Watts Bar Nuclear Station, Unit 2; Notice of Intent To Prepare a Supplement to the Operating License Final Environmental Statement and Conduct Scoping Process

Tennessee Valley Authority (TVA) has submitted an application for an Operating License for Watts Bar Nuclear Station Unit 2 (WBN2). WBN2 is located in Rhea County, Tennessee, on the Tennessee River. The application for the operating license, dated June 30, 1976, was submitted pursuant to Title 10 of the Code of Federal Regulations (10 CFR) Part 50. An updated operating license was submitted on March 4, 2009. The WBN Unit 2 Final Supplemental Environmental Impact Statement for the Completion and Operation of WBN Unit 2 (June 2007) (FSEIS) was submitted to the U.S Nuclear Regulatory Commission (NRC) on February 15, 2008 (Agencywide Documents Access and Management System (ADAMS) Accession Number ML080510469). The proposed action in response to the updated application is the issuance of an operating license that would authorize TVA to possess, use, and operate a second lightwater nuclear reactor (the facility), Watts Bar Nuclear Plant (WBN) Unit 2, located on the applicant's site in Rhea County, Tennessee. The unit would operate at a steady-state power level of 3,411 megawatts thermal. Alternatives to the proposed action include the denial of an operating license or issuance of a license for a different power level. The purpose of this notice is to inform the public that a supplement to the final environmental statement (FES) related to the review of the license application will be prepared in accordance with 10 CFR 51.92 and to provide the public an opportunity to participate in the environmental scoping process, as defined in 10 CFR 51.29. In addition, as outlined in 36 CFR 800.8, “Coordination With the National Environmental Policy Act,” the NRC plans to coordinate compliance with Section 106 of the National Historic Preservation Act in meeting the requirements of the National Environmental Policy Act of 1969 (NEPA).

TVA submitted the FSEIS on February 15, 2008, as part of the updated application. The FSEIS is publicly available at the NRC Public Document Room (PDR), located at One White Flint North, 11555 Rockville Pike, Rockville, Maryland, 20852, or from the NRC's ADAMS. The ADAMS Public Electronic Reading Room is accessible at http://adamswebsearch.nrc.gov/dologin.htm. The ADAMS Accession Number for the FSEIS is ML080510469. In addition, TVA provided supplemental information to the FSEIS in two additional submittals: Watts Bar Nuclear Plant (WBN)—Unit 2—Final Supplemental Environmental Impact Statement—[response to] Request for Additional Information dated July 2, 2008 (ML081850460), and Watts Bar Nuclear Plant (WBN) Unit 2—Final Supplemental Environmental Impact Statement—Severe Accident Management Alternatives dated January 27, 2009 (ML090360706). Persons who do not have access to ADAMS, or who encounter problems in accessing the documents located in ADAMS, should contact the NRC's PDR reference staff by telephone at 1-800-397-4209, or 301-415-4737, or by e-mail at pdr.resource@nrc.gov. The FSEIS may also be viewed on the Internet at http://www.nrc.gov/reactors/plant-specific-items/watts-bar/key-correspondence.html.

This notice advises the public that the NRC intends to gather the information necessary to prepare a supplement to the WBN2 Final Environmental Statement. The matters to be addressed in the supplement include evaluation of new and significant circumstances or information, relevant to environmental concerns, that developed after the 1978 FES (ADAMS Accession Number ML082560457). This notice is being published in accordance with NEPA and the NRC's regulations found in 10 CFR Part 51.

The NRC will first conduct a scoping process for the supplement to the FES and, as soon as practicable thereafter, will prepare a draft supplement to the FES for public comment. Participation in the scoping process by members of the public and local, State, Tribal, and Federal government agencies is encouraged. The scoping process for the supplement to the FES as described in 40 CFR 51.29(a)(1)-(8) will be used to accomplish the following:

1. Define the proposed action which is to be the subject of the supplement, using the provision of 10 CFR 1502.4.

2. Determine the scope of the supplement and identify the significant issues to be analyzed in depth.

3. Identify and eliminate from detailed study those issues that are peripheral or that are not significant.

4. Identify any environmental assessments and ElSs that are being, or will be, prepared which are related to, but are not part of, the scope of the supplement.

5. Identify other environmental review and consultation requirements related to the proposed action so that other required analyses may be prepared concurrently and integrated with the supplement.

6. Indicate the relationship between the timing of the preparation of the environmental analyses and the Commission's tentative planning and decision-making schedule.

7. Identify any cooperating agencies and, as appropriate, allocate assignments for preparation and schedules for completing the supplement to the FES.

8. Describe how the supplement to the FES will be prepared, including any contractor assistance to be used.

At the conclusion of the scoping process, the NRC will prepare a concise summary of the determination and conclusions reached, including the significant issues identified, and will send a copy of the summary to each participant in the scoping process. The summary will also be available for inspection in ADAMS at http://adamswebsearch.nrc.gov/dologin.htm. The NRC may revise the determinations in the summary as appropriate. The staff will then prepare and issue for comment the draft supplement to the FES, which will be the subject of separate notices and separate public meetings. Copies will be available for public inspection at the above-mentioned addresses. After receipt and consideration of the comments, the NRC will prepare a final supplement to the FES, which will also be available for public inspection.

The NRC is inviting the following to participate in scoping:

a. The applicant, Tennessee Valley Authority.

b. Other Federal agencies that have jurisdiction by law or special expertise with respect to any environmental impact involved, or that are authorized to develop and enforce relevant environmental standards.

c. Affected State and local agencies, including those authorized to develop and enforce relevant environmental standards.

d. Affected Native American Tribes.

e. Persons who requested an opportunity to participate in the scoping process.

f. Person who petitioned for leave to intervene in the proceeding.

In accordance with 10 CFR 51.26, the scoping process for an EIS, which in this case is equivalent to the FES, may include a public scoping meeting to help identify significant issues related to a proposed activity and to determine the scope of issues to be addressed in the FES. The NRC has decided to hold public meetings for the WBN2 operating license supplement to the FES. The scoping meetings will be held at the Magnuson Hotel at 1421 Murrays Chapel Road in Sweetwater, Tennessee, on Tuesday, October 6, 2009. There will be two sessions to accommodate interested persons. The first session will be at 1:30 p.m. and the second at 6:30 p.m. Both sessions will be transcribed and will include: An overview by the NRC staff of the NEPA environmental review process, the proposed scope of the supplement to the FES, and the proposed review schedule; and the opportunity for interested government agencies, organizations, and individuals to submit comments or suggestions on the environmental issues or the proposed scope of the supplement to the FES. Additionally, the NRC staff will host informal discussions one hour prior to the start of each session at the same location. No formal comments on the proposed scope of the supplement to the FES will be accepted during the informal discussions. To be considered, comments must be provided either at the transcribed public meetings or in writing, as discussed below. Persons may register to attend or present oral comments at the meetings on the scope of the NEPA review by contacting the NRC Project Manager, Mr. Joel Wiebe, by telephone at 301-415-6606, or by e-mail to Joel.Wiebe@nrc.gov no later than September 30, 2009. Members of the public may also register to speak at the meeting within 15 minutes of the start of each session. Individual oral comments may be limited by the time available, depending on the number of persons who register. Members of the public who have not registered may also have an opportunity to speak, if time permits. Public comments will be considered in the scoping process for the supplement to the FES.

Members of the public may send written comments on the environmental scope of the WBN2 operating license review to: Chief, Rulemaking and Directives Branch, Division of Administrative Services, Office of Administration, Mailstop TWB-05B01, U.S. Nuclear Regulatory Commission, Washington, DC 20555-0001, and should cite the publication date and page number of this Federal Register notice. Electronic comments may be sent by e-mail to the NRC at RidsNrrPMWattsBar2.Resource@nrc.gov, and should be sent no later than October 30, 2009, to be considered in the scoping process. Comments will be available electronically and accessible through ADAMS at http://adamswebsearch.nrc.gov/dologin.htm. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Participation in the scoping process for the supplement to the FES does not entitle participants to become parties to the proceeding to which the supplement to the FES relates. Notice of opportunity for a hearing regarding the updated license application was the subject of the aforementioned Federal Register notice 74 FR 20350. Matters related to participation in any hearing are outside the scope of matters to be discussed at this public meeting.

Information about the proposed action, the supplement to the FES, and the scoping process may be obtained from Mr. Wiebe at the aforementioned telephone number or e-mail address.

Dated at Rockville, Maryland, this 4th day of September 2009.
For the Nuclear Regulatory Commission.
L. Raghavan,
Chief, Watts Bar Special Projects Branch, Division of Operating Reactor Licensing, Office of Nuclear Reactor Regulation.

[FR Doc. E9-21978 Filed 9-10-09; 8:45 am]

BILLING CODE 7590-01-P